DEPARTMENT OF VETERANS AFFAIRS

Advisory Committee on Cemeteries and Memorials, Notice of Meeting

The Department of Veterans Affairs (VA) gives notice under the Federal Advisory Committee Act, 5 U.S.C. Ch. 10, that the annual meeting of the Advisory Committee on Cemeteries and Memorials will be held October 28-29, 2025. The meeting sessions will begin and end as follows:

Date(s) | Time(s) | Location(s) | Open to the public
October 28, 2025 | 8:30 a.m. to 4:00 p.m. Eastern Standard Time (EST) | 811 Vermont Avenue NW, Room 6136, Washington, DC 20420 | Yes.
October 29, 2025 | 9:00 a.m. to 4:00 p.m. EST | 811 Vermont Avenue NW, Room 6136, Washington, DC 20420 | Yes.

The meeting sessions are open to the public.

The purpose of the Committee is to advise the Secretary of Veterans Affairs on the administration of national cemeteries, soldiers' lots and plots, the selection of new national cemetery sites, the erection of appropriate memorials, and the adequacy of Federal burial benefits. The Committee makes recommendations to the Secretary regarding such activities.

On Wednesday, October 28, 2025, the Committee will convene an open session from 8:30 a.m. to 4:00 p.m. EST. The agenda will include remarks from the National Cemetery Administration leadership, and briefings from the VA Advisory Committee Management Office, Office of Engagement and Memorial Innovation, Missing in America Project and a panel discussion on VA Interments of Unclaimed Veteran Remains.

On Thursday, October 29, 2025, the Committee will convene an open session from 9:00 a.m. to 4:00 p.m. EST. The agenda will include an overview of the VA Centralized Outreach Module, committee discussion, and review of recommendations. Additionally, time will be allotted for the public to provide comments starting at 2:30 p.m. EST and ending no later than 3:00 p.m. EST. The comment period may end sooner, if there are no comments presented or they are exhausted before the end time. Individuals interested in providing comments during the public comment period are allowed no more than three minutes for their statements.

Any member of the public seeking additional information or that wish to attend the meeting in person should contact Ms. Faith Hopkins, Designated Federal Officer, at 202-603-4499. Please leave a voice mail message. The Committee will also accept written comments. Comments may be transmitted electronically to the Committee at faith.hopkins@va.gov. In the public's communications with the Committee, the writers must identify themselves and state the organizations, associations, or persons they represent.

Any member of the public who wishes to attend the meeting virtually may dial in by calling (872) 701-0185, access code: 494 551 893#.

Dated: September 9, 2025.
Jelessa M. Burney,
Federal Advisory Committee Management Officer.

[FR Doc. 2025-17536 Filed 9-10-25; 8:45 am]

BILLING CODE 8320-01-P